DEPARTMENT OF JUSTICE

[OMB Number 1105-NEW]

Agency Information Collection Activities; Proposed Collection, Comments Requested; USMS Medical Forms

ACTION: 30-day Notice.

The Department of Justice, U.S. Marshals Service will be submitting the following information collection request to the Office of Management and Budget (OMB) for review and clearance in accordance with established review procedures of the Paperwork Reduction Act of 1995. The proposed information collection is published to obtain comments from the public and affected agencies. This proposed information collection was previously published in the Federal Register Volume 78, Number 72, pages 22294-22295, on April 15, 2013, allowing for a 60 day comment period.

The purpose of this notice is to allow for an additional 30 days for public comments until July 31, 2013. This process is conducted in accordance with 5 CFR 1320.10.

All comments and suggestions, or questions regarding additional information, to include obtaining a copy of the proposed information collection instrument with instructions, should be directed to Nicole Feuerstein, U.S. Marshals Service, CS-3, 10th Fl., 2604 Jefferson Davis Hwy, Alexandria, VA 22301.

Written comments and suggestions from the public and affected agencies concerning the proposed collection of information are encouraged. Comments should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including the use of automated, electronic, mechanical, or other technological collection techniques of other forms of information technology, e.g., permitting electronic submission of responses.

Overview of this information collection:

1. Type of information collection: New collection.

2. The title of the form/collection: USMS Medical Forms.

3. The agency form number, if any, and the applicable component of the department sponsoring the collection: Sponsored by the U.S. Marshals Service.

Form Numbers:

—USM-522A Physician Evaluation Report for USMS Operational Employees

—USM-522P Physician Evaluation Report for USMS Operational Employees—Pregnancy Only

—USM-600 Physical Requirements of USMS District Security Officers

— CSO-012 Request to Reevaluate Court Security Officer's Medical Qualification

4. Affected public who will be asked or required to respond, as well as a brief abstract:

—USM-522A Physician Evaluation Report for USMS Operational Employees

○ Affected public: Private sector (Physicians)

○ Brief abstract: This form is to be used by operational law enforcement employees who are restricted from full performance of their duties for longer than 80 consecutive hours due to injury or illness; or by prospective operational employees who are impacted by medical issues prior to completing the Training Academy. The primary use of this information will be to determine the nature of a medical or physical condition that may affect safe and efficient performance of the work described in the employee's position description.

—USM-522P Physician Evaluation Report for USMS Operational Employees

—(Pregnancy Only)

○ Affected public: Private sector (Physicians)

○ Brief abstract: This form is to be used by operational employees who are temporarily restricted from performing all of their duties due to pregnancy. In accordance with USMS Policy Directive 3.5, after a physician has confirmed the pregnancy, or no later than the completion of the first trimester of pregnancy (the end of the 13th week), the operational employee is responsible for securing a completed Form USM-522P, or equivalent, from her physician. The primary use of this information will be to determine the nature of a medical or physical condition that may affect safe and efficient performance of the work described in the employee's position description.

—USM-600 Physical Requirements of USMS District Security Officers

○ Affected public: Private sector (Physicians)

○ Brief abstract: It is the policy of the USMS to ensure a law enforcement work force that is medically able to safely perform the required job functions. Annual completion of Form USM-600 is required to ensure that all applicant and incumbent District Security Officers meet the medical standards as outlined in the Statement of Work and are medically qualified to perform all District Security Officer duties.

—CSO-012 Request to Reevaluate Court Security Officer's Medical Qualification

○ Affected public: Private sector (Physicians)

○ Brief abstract: Use of this form is required when a Court Security Officer (CSO) is returning to perform security services after recovering from an injury, illness, outpatient or inpatient surgery/procedure (including such procedures as LASIK), hospitalization or emergency room visits, or extended medical reasons. A Court Security Officer may not resume security services until the USMS Office of Court Services has provided written approval for the individual to resume performing under the applicable contract. Court Security Officers are contractors, not employees of USMS; therefore, Form USM-522A does not apply to CSOs.

5. An estimate of the total number of respondents and the amount of time estimated for an average respondent to respond:

—USM-522A Physician Evaluation Report for USMS Operational Employees

It is estimated that 100 respondents will complete a 20 minute form.

—USM-522P Physician Evaluation Report for USMS Operational Employees (Pregnancy Only)

It is estimated that 12 respondents will complete a 15 minute form.

—USM-600 Physical Requirements of USMS District Security Officers

It is estimated that 800 respondents will complete a 20 minute form.

— CSO-012 Request to Reevaluate Court Security Officer's Medical Qualification

It is estimated that 300 respondents will complete a 30 minute form.

6. An estimate of the total public burden (in hours) associated with this collection:

—USM-522A Physician Evaluation Report for USMS Operational Employees

There are an estimated 33 annual total burden hours associated with this collection.

—USM-522P Physician Evaluation Report for USMS Operational Employees (Pregnancy Only)

There are an estimated 3 annual total burden hours associated with this collection.

—USM-600 Physical Requirements of USMS District Security Officers

There are an estimated 267 annual total burden hours associated with this collection.

—CSO-012 Request to Reevaluate Court Security Officer's Medical Qualification

There are an estimated 150 annual total burden hours associated with this collection.

Total Annual Time Burden (Hour): 453.

If additional information is required contact: Jerri Murray, Department of Justice Clearance Officer, Justice Management Division, United States Department of Justice, Policy and Planning Staff, Two Constitution Square, 145 N Street NE., 1407B, Washington, DC 20530.

Dated: June 25, 2013.
Jerri Murray,
Department Clearance Officer for PRA, United States Department of Justice.

[FR Doc. 2013-15607 Filed 6-28-13; 8:45 am]

BILLING CODE 4410-04-P